DEPARTMENT OF DEFENSE

GENERAL SERVICES ADMINISTRATION

NATIONAL AERONAUTICS AND SPACE ADMINISTRATION

48 CFR Chapter 1

Federal Acquisition Regulation; Small Entity Compliance Guide

AGENCIES: Department of Defense (DoD), General Services Administration (GSA), and National Aeronautics and Space Administration (NASA).

ACTION: Small Entity Compliance Guide.

SUMMARY: This document is issued under the joint authority of the Secretary of Defense, the Administrator of General Services and the Administrator for the National Aeronautics and Space Administration. This Small Entity Compliance Guide has been prepared in accordance with Section 212 of the Small Business Regulatory Enforcement Fairness Act of 1996 (Pub. L. 104-121). It consists of a summary of the rule appearing in Federal Acquisition Circular (FAC) 97-24 which amends the FAR. Interested parties may obtain further information regarding this rule by referring to FAC 97-24 which precedes this document. This document is also available via the Internet at http://www.arnet.gov/far.

FOR FURTHER INFORMATION CONTACT: Laurie Duarte, FAR Secretariat, (202) 501-4225. For clarification of content, contact Ralph De Stefano, Procurement Analyst, General Services Administration, at (202) 501-1758.

Contractor Responsibility, Labor Relations Costs, and Costs Relating to Legal and Other Procedures (FAR Case 1999-010)

The FAR Council has determined that the 30-day effective date did not give Federal contractors and the Federal Government sufficient time to meet the new obligations and responsibilities imposed by the December 20, 2000, final rule. Therefore, the FAR Council has decided to stay the effective date of the final rule. During the stay, the FAR text is restored to the text as it existed before January 19, 2001.

Dated: March 29, 2001.
Al Matera,
Director, Acquisition Policy Division.

[FR Doc. 01-8123 Filed 3-30-01; 8:45 am]

BILLING CODE 6820-EP-P